DEPARTMENT OF THE INTERIOR

Bureau of Land Management

[LLCON04000-L12200000-PA0000]

Notice of Proposed Supplementary Rules for Public Lands in Colorado: McInnis Canyons National Conservation Area

AGENCY: Bureau of Land Management, Department of the Interior.

ACTION: Proposed supplementary rules.

SUMMARY: The Bureau of Land Management's (BLM) Grand Junction Field Office is proposing supplementary rules to regulate conduct on public lands within the McInnis Canyons National Conservation Area (MCNCA). These supplementary rules are needed to implement decisions found in the McInnis Canyons National Conservation Area Resource Management Plan to protect public health, safety, lands and resources.

DATES: Comments on the proposed supplementary rules must be received or postmarked by September 11, 2009 to be assured consideration. The BLM is not obligated to consider comments postmarked or received after this date.

ADDRESSES: Please mail comments to Katie Stevens, McInnis Canyons National Conservation Area, 2815 H Road, Grand Junction, Colorado 81506; or e-mail comments to gjfo_webmail@blm.gov, Attn: “McInnis Canyons.”

FOR FURTHER INFORMATION CONTACT: Katie Stevens, McInnis Canyons National Conservation Area, (970) 244-3049, e-mail: Katie_A_Stevens@blm.gov or Eric Boik, BLM Field Staff Law Enforcement Ranger, (970) 244-3070, e-mail: Eric_Boik@blm.gov

SUPPLEMENTARY INFORMATION:

I. Public Comment Procedures

Written comments on the proposed supplementary rules should be specific, be confined to issues pertinent to the proposed supplementary rules, and explain the reason for any recommended change. Where possible, comments should reference the specific section or paragraph of the proposal which the comment is addressing. The BLM is not obligated to consider or include in the Administrative Record for the final supplementary rules comments either postmarked or electronically dated after the deadline or delivered to an address other than the address listed above (See ADDRESSES).

Comments (including names, street addresses, and other contact information of respondents) will be available for public review at 2815 H Road, Grand Junction, Colorado 81506. Before including your address, phone number, e-mail address, or other personal identifying information in your comment, you should be aware that your entire comment—including your personal identifying information—may be made publicly available at any time. While you can ask us in your comment to withhold your personal identifying information from public review, we cannot guarantee that we will be able to do so.

II. Background

These proposed supplementary rules apply to the McInnis Canyons National Conservation Area (MCNCA), approximately 122,300 acres of public lands which include the 75,550 acre Black Ridge Canyons Wilderness. The MCNCA, originally known as the Colorado Canyons National Conservation Area, was established by Public Law 106-353 on October 24, 2000. It was renamed for Representative Scott McInnis by Public Law 108-400 on January 1, 2005.

The MCNCA is located 10 miles west of Grand Junction, Colorado and is bordered by the Colorado National Monument to the east and the Colorado/Utah state line to the west. A small portion of the Black Ridge Canyons Wilderness (5,200 acres) extends into Grand County, Utah. The proposed supplementary rules will help the BLM achieve management objectives and implement decisions in the MCNCA Resource Management Plan (RMP) approved on October 24, 2004.

III. Discussion of the Proposed Supplementary Rules

In preparing the RMP, the BLM sought public review of four alternatives and then approved adaptive management, its preferred alternative. Adaptive management allows for flexibility in management actions based on the results of resource and visitor monitoring.

The RMP includes specific management actions that restrict certain activities and define allowable uses. The proposed supplementary rules implement these management actions within the MCNCA. Many of the proposed supplementary rules apply to the entire area, but some apply only to specific areas within the NCA. The proposed supplementary rules are written to allow for adaptive management.

IV. Procedural Matters

Executive Order 12866, Regulatory Planning and Review

The supplementary rules do not comprise a significant regulatory action and are not subject to review by the Office of Management and Budget under Executive Order 12866. The supplementary rules will not have an annual effect of $100 million or more on the economy. They will not adversely affect in a material way the economy, productivity, competition, jobs, the environment, public health or safety, or state, local, or tribal governments or communities. The supplementary rules will not create a serious inconsistency or otherwise interfere with an action taken or planned by another agency. The supplementary rules do not materially alter the budgetary effects of entitlements, grants, user fees, or loan programs or the rights or obligations of their recipients; nor do they raise novel legal or policy issues. The supplementary rules are merely rules of conduct for public use of a limited area of public lands.

Clarity of the Regulations

Executive Order 12866 requires each agency to write regulations that are simple and easy to understand. The BLM invites your comments on how to make the supplementary rules easier to understand, including answers to questions such as the following:

1. Are the requirements in the supplementary rules clearly stated?

2. Do the supplementary rules contain technical language or jargon that interferes with their clarity?

3. Does the format of the supplementary rules (grouping and order of sections, use of headings, paragraphing, etc.) aid or reduce clarity?

4. Is the description of the supplementary rules in the SUPPLEMENTARY INFORMATION section of this preamble helpful in understanding the supplementary rules? How could this description be more helpful in making the supplementary rules easier to understand?

Please send any comments you have on the clarity of the rule to the address specified in the ADDRESSES section.

National Environmental Policy Act

In July 2004, the BLM completed an environmental impact statement (EIS) as part of the development of the Proposed Resource Management Plan and Final Environmental Impact Statement for the Colorado Canyons National Conservation Area and Black Ridge Canyons Wilderness (now McInnis Canyons National Conservation Area). During the National Environmental Policy Act process, many proposed decisions were fully analyzed, including the substance of these supplementary rules. The pertinent analysis can be found in Chapter 2, Alternatives, of the Resource Management Plan (RMP). The Record of Decision for the RMP was signed by the BLM State Director of Colorado in October 2004. These proposed supplementary rules provide for enforcement of decisions in the RMP. The rationale for the decisions made in the plan is fully covered in the EIS. The EIS is available for review in the BLM administrative record at the address specified in the ADDRESSES section.

Regulatory Flexibility Act

Congress enacted the Regulatory Flexibility Act (RFA) of 1980, as amended (5 U.S.C. 601-612) to ensure that government regulations do not unnecessarily or disproportionately burden small entities. The RFA requires a regulatory flexibility analysis if a rule would have a significant economic impact, either detrimental or beneficial, on a substantial number of small entities. The supplementary rules merely establish rules of conduct for public use of a limited area of public lands. Therefore, the BLM has determined under the RFA that the supplementary rules would not have a significant economic impact on a substantial number of small entities.

Small Business Regulatory Enforcement Fairness Act

The supplementary rules are not considered a major rule as defined under 5 U.S.C. 804(2). The supplementary rules merely establish rules of conduct for public use of a limited area of public lands and do not affect commercial or business activities of any kind.

Unfunded Mandates Reform Act

The supplementary rules do not impose an unfunded mandate on state, local, or tribal governments in the aggregate, or on the private sector of more than $100 million per year; nor do they have a significant or unique effect on small governments. The supplementary rules have no effect on governmental or tribal entities and would impose no requirements on any of these entities. The supplementary rules merely establish rules of conduct for public use of a limited selection of public lands and do not affect tribal, commercial, or business activities of any kind. Therefore, the BLM is not required to prepare a statement containing the information required by the Unfunded Mandates Reform Act (2 U.S.C. 1531 et seq.).

Executive Order 12630, Governmental Actions and Interference With Constitutionally Protected Property Rights (Takings)

The supplementary rules do not have significant takings implications, nor are they capable of interfering with Constitutionally-protected property rights. The supplementary rules merely establish rules of conduct for public use of a limited area of public lands and do not affect anyone's property rights. Therefore, the BLM has determined that these rules will not cause a taking of private property or require preparation of a takings assessment under this Executive Order.

Executive Order 13132, Federalism

These supplementary rules will not have a substantial direct effect on the states, the relationship between the national government and the states, nor the distribution of power and responsibilities among the various levels of government. These supplementary rules do not come into conflict with any state law or regulation. Therefore, under Executive Order 13132, the BLM has determined that these supplementary rules do not have sufficient Federalism implications to warrant preparation of a Federalism Assessment.

Executive Order 12988, Civil Justice Reform

Under Executive Order 12988, these supplementary rules will not unduly burden the judicial system and that they meet the requirements of sections 3(a) and 3(b)(2) of the Order.

Executive Order 13175, Consultation and Coordination With Indian Tribal Governments

In accordance with Executive Order 13175, these supplementary rules do not include policies that have tribal implications. The supplementary rules do not affect land held for the benefit, nor impede the rights of Indians or Alaska Natives.

Paperwork Reduction Act

These proposed supplementary rules do not directly provide for any information collection that the Office of Management and Budget must approve under the Paperwork Reduction Act, 44 U.S.C. 3501 et seq. Any information collection that may result from Federal criminal investigations or prosecution conducted under these proposed supplementary rules is exempt from the provisions of the Paperwork Reduction Act of 1995, 44 U.S.C. 3518(c)(1).

Author

The principal author of these proposed supplementary rules is Eric Boik, BLM Field Staff Law Enforcement Ranger, McInnis Canyons National Conservation Area, 2815 H Road Grand Junction, Colorado 81506.

For the reasons stated in the preamble and under the authorities for supplementary rules found under 43 U.S.C. 1740 and 43 CFR 8365.1-6, the Colorado State Director, Bureau of Land Management, proposes supplementary rules for public lands managed by the BLM in Colorado, to read as follows:

Supplementary Rules for McInnis Canyons

1. These supplementary rules apply, except as specifically exempted, to activities within the McInnis Canyons National Conservation Area (MCNCA), which is comprised of public lands administered by the Bureau of Land Management near Grand Junction, Colorado.

2. These supplementary rules are in effect on a year-round basis and will remain in effect until modified by the authorized officer.

3. You must not camp in sites or areas not designated as open to camping by a BLM sign or map.

4. You must not start or maintain a fire in sites or areas not designated as open for such use by a BLM sign or map.

5. In areas designated as open for starting or maintaining a fire, any fire must be fully contained in a metal fire grate, fire pan, or other metal device to contain ashes. Mechanical stoves and other appliances that are fueled by gas, and equipped with a valve that allows the operator to control the flame, are among the devices that meet this requirement.

6. When starting or maintaining a fire outside of a developed recreation site, you must contain and completely remove fire ashes and debris from BLM land.

7. You must not cut, collect, or use live, dead, or down wood except in areas designated as open to such use by a BLM sign or map.

8. The hours of operation are sunrise to sunset in any area that is for day-use only as indicated by a BLM sign or map. You must not enter or remain in such an area after sunset or before sunrise.

9. You must not park in areas not designated for parking by a BLM sign or map.

10. Exceeding group size limits, as indicated by a BLM sign or map, is prohibited.

11. Exceeding length of stay limits, as indicated by a BLM sign or map, is prohibited.

12. Individuals and/or groups must register and possess proof of registration as indicated by a BLM sign or map.

13. You must not use roads and/or trails by motorized or mechanized vehicle or equestrian or pedestrian travel except where designated as open to such use by a BLM sign or map.

14. You must not discharge a firearm of any kind, including those used for target shooting or paintball. Licensed hunters in legitimate pursuit of game during the proper season with appropriate firearms, as defined by the Colorado Division of Wildlife, are exempt from this rule.

15. You must not collect or disturb rocks, minerals, fossils, chipped rocks, arrowheads, or other paleontological, prehistoric or historical artifacts.

16. You must not enter an area that is designated as closed by a BLM sign or map.

17. You must remove and properly dispose of canine solid waste when and where indicated by a BLM sign or map.

18. You must not bring any dog into the MCNCA that is not controlled by visual, audible, or physical means.

19. You must not burn material, including wood, that contains nails, glass, or any metal.

20. You must dispose of solid human waste as indicated by a BLM sign or map.

Exemptions: The following persons are exempt from these supplementary rules:

A. Any Federal, state, local and/or military personnel in the scope of their official duties;

B. Members of any organized rescue or fire-fighting force in performance of their official duties; and

C. Persons, agencies, municipalities, or companies holding an existing special-use permit inside the MCNCA and operating within the scope of their permit.

Penalties: Any person who violates any of these supplementary rules may be tried before a United States Magistrate and fined no more than $1,000 or imprisoned for no more than 12 months, or both. 43 U.S.C. 1733(a); 43 CFR 8360.0-7. Such violations may also be subject to the enhanced fines provided for by 18 U.S.C. 3571. In accordance with 43 CFR 8365.1-7, State or local officials may also impose penalties for violations of Colorado law.

Dave Hunsaker,
Associate State Director.

[FR Doc. E9-16416 Filed 7-10-09; 8:45 am]

BILLING CODE 4310-JB-P